DEPARTMENT OF HEALTH AND HUMAN SERVICES

Putting the Person at the Center: Integrating Plans for Long-Term Services and Supports and Health Care Delivery through Health Information Technology; Public Workshop; Request for Comments

AGENCY: Administration for Community Living and Office of the National Coordinator on Health Information Technology, Department of Health and Human Services.

ACTION: Notice of public workshop; request for comments.

The Administration for Community Living (ACL) and the Office of the National Coordinator for Health Information Technology (ONC) of the U.S. Department of Health and Human Services announce the following workshop, Putting the Person at the Center: Integrating Plans for Long-Term Services and Supports and Health Care Delivery through Health Information Technology. ACL and the ONC (collectively referred to for the purpose of this notice as “the Agencies”) seek input from stakeholders and experts on the use of health information technology (health IT) to enable a person-centered approach for planning and delivering both long-term services and supports (LTSS) and health care, including how to improve communication and collaboration among community-based organizations and health care partners. The topics to be discussed include person-centered planning and how it can serve as a focus for integrating health IT and LTSS; key opportunities and challenges; and, delivery and payment reform policy levers that could be used to accelerate the development of technology solutions in this arena.

Using health IT to support person and family-centered planning can provide a path to improving communication and quality of health care and LTSS, and ensuring that the individual's preferences, priorities and goals are the foundation for that plan and are addressed across the spectrum of health care and LTSS settings. Health care LTSS providers play a critical role in this care continuum. However the pace of health IT adoption and interoperable communication varies across systems. Interoperable health IT systems that reach across settings and health care and community partners would not only enhance communication, transitional care, and care coordination activities currently underway within programs funded by the Affordable Care Act, but could also facilitate the development of an accessible, integrated, person-centered plan that would better allow individuals to achieve their goals, manage their services, and enhance their quality of life.

Date and Times: The public workshop will be held on Thursday, October 16, 2014 from 9 a.m. to 4:15pm.

Location: The public workshop will be held at the Hubert H. Humphrey Building, 200 Independence Avenue SW., Washington DC 20201, Room 800.

Contact person: Caroline Ryan (Caroline.Ryan@acl.hhs.gov)

Registration: Registration is free and available on a first-come, first-served basis. Persons interested in attending this public workshop in-person must register online by 5 p.m., on October 10, 2014. Early registration is recommended because facilities are limited. Onsite registration on the day of the public workshop will not be available.

If you need special accommodations due to a disability, please contact Caroline Ryan (Caroline.Ryan@acl.hhs.gov) no later than October 10, 2014.

To register to attend the public workshop in-person, please visit: https://www.eventbrite.com/e/advancing-person-centered-care-planning-and-integration-of-ltss-and-health-care-information-through-tickets-13337042453#. Please provide complete contact information for each attendee, including name, title, affiliation, email, and telephone number. Those without internet access should contact Caroline Ryan (Caroline.Ryan@acl.hhs.gov) to register. Registrants will receive confirmation after they have been accepted.

Webcast of the Public Workshop: This public workshop will also be available by webcast. Those interested in joining the webcast must register no later than October 14, 2014. Early registration is recommended; conference lines are limited. To register for the webcast, please visit: https://attendee.gotowebinar.com/register/2329630204976253953. Call details will be sent to all registered participants after October 14, 2014.

Requests for Public Comment: This public workshop will include topic-focused sessions with opportunities for public comment in-person or via webcast. The agencies will do their best to accommodate requests to make public comments. Individuals and organizations with common interests are urged to consolidate or coordinate their comments.

Comments: The agencies seek broad input from stakeholders and experts on the use of health information technology (health IT) for the purposes of developing an integrated, person-centered plan, including how to improve communication and collaboration among community-based organizations and health care partners. To obtain broad public comment, the Agencies are soliciting comments on all aspects of the public workshop topics.

The deadline for submitting comments related to this public workshop is October 31, 2014.

Please submit comments to: personcenteredhealthIT@hhs.gov

Transcript: The meeting will be transcribed. A transcript and meeting materials will be posted on the healthit.gov Web site at: http://healthitgov-stage.ahrqstg.org/person-centered-care.

Dated: October 1, 2014.
Jacob Reider,
Deputy National Coordinator for Health Information Technology.

[FR Doc. 2014-23931 Filed 10-7-14; 8:45 am]

BILLING CODE 4150-45-P